DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet October 28-30, 2009. The public may file written comments before or up to two weeks after the meeting with the contact person.

ADDRESSES: The meeting will take place at The Madison Hotel, 1177 15th Street NW., Washington, DC 20005. Written comments from the public may be sent to the Contact Person identified in this notice at: The National Agricultural Research, Extension, Education, and Economics Advisory Board Office, Room 3858 South Building, United States Department of Agriculture, STOP 0321, 1400 Independence Avenue, SW., Washington, DC 20250-0321.

FOR FURTHER INFORMATION CONTACT: Karen Hunter, Executive Director or Shirley Morgan-Jordan, Program Support Coordinator, National Agricultural Research, Extension, Education, and Economics Advisory Board; telephone: (202) 720-3684; fax: (202)720-6199; or e-mail: Karen.hunter@ars.usda.gov or Shirley.morgan@ars.usda.gov. Persons requiring sign language interpretation or other reasonable accommodations should contact either individual in advance.

SUPPLEMENTARY INFORMATION: The meeting will be open to the public, with opportunity for public comment each day. On Wednesday, October 28, 2009, an orientation session for new members and interested incumbent members will be held from 9:30 a.m.-12 p.m. (noon). The full Advisory Board will convene at 12 p.m. (noon) with introductory remarks by the Chair of the Advisory Board. There will be brief introductions of new Board members, incumbents, and guests followed by general Board business. Comments will be heard from a variety of distinguished leaders and experts, as well as officials and/or leaders from the four agencies in the USDA Research, Education, and Economics mission area. Speakers will provide information for the Board to consider while developing recommendations regarding enhancement of USDA research, extension, education, and economic programs for the protection of US food, fiber, fuel and agricultural systems. The Honorable Secretary of Agriculture Tom Vilsack has been invited to provide brief remarks and welcome the new Board members. On Thursday, October 29, 2009, the Board will reconvene at 8 a.m. Dr. Rajiv Shah, Under Secretary of the Research, Education, and Economics mission area has been invited to speak during the meeting. Presentations and discussions throughout the day will focus on two subject areas: (1) Cooperative Extension and (2) Nutrition and Health in Youth. The meeting will adjourn by 6 p.m. On Friday, October 30, 2009, the Board will reconvene at 8 a.m. to discuss initial recommendations resulting from the meeting and future planning for the Board. Opportunity for public comment will be offered each day of the meeting. The Board Meeting will adjourn by 12 p.m. (noon) on Friday, October 30, 2009.

Written comments by attendees or other interested stakeholders will be welcomed for the public record before and up to two weeks following the Board meeting (by close of business Friday, November 13, 2009). All statements will become a part of the official record of the National Agricultural Research, Extension, Education, and Economics Advisory Board and will be kept on file for public review in the Research, Extension, Education, and Economics Advisory Board Office.

Done at Washington, DC this 21st day of September 2009.
Maura O'Neill,
Chief of Staff, Senior Advisor for Energy and Climate.

[FR Doc. E9-23649 Filed 9-30-09; 8:45 am]

BILLING CODE 3410-22-P